DEPARTMENT OF ENERGY

Federal Energy Regulatory Commission

[Docket No. EL07-28-000]

Xcel Energy Services Inc., Complainant v. Southwest Power Pool, Inc., Respondent; Notice of Complaint

January 9, 2007.

Take notice that on January 4, 2007, pursuant to sections 206 and 306 of the Federal Power Act, 16 U.S.C. 824e and 825e and Rule 206 of the Rules and Practice and Procedure of the Federal Energy Regulatory Commission (Commission), 18 CFR 385.206, Xcel Energy Services Inc., (Complainant), on behalf of itself and Southwestern Public Service Company (SPS) filed a formal complaint against Southwest Power Pool, Inc. (Respondent) requesting the Commission to interpret the Respondent's Open Access Transmission Tariff and relevant business practices and find that the Respondent does not have the authority to unilaterally register assets to SPS without SPS's consent. The Complainant also requests an Order from the Commission directing the Respondent to remove the assets from the list of generation facilities for which SPS is registered in the Respondents EIS Market, until such time as SPS agrees to register these facilities itself.

The Complainant requests fast track processing of its complaint due to the Respondents EIS Market schedule which commences operations on February 1, 2007.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on January 16, 2007.

Magalie R. Salas,
Secretary.

[FR Doc. E7-446 Filed 1-12-07; 8:45 am]

BILLING CODE 6717-01-P